DEPARTMENT OF THE INTERIOR

Bureau of Indian Affairs

Indian Gaming; Notice of Approved Tribal State Compact

AGENCY: Bureau of Indian Affairs, Interior.

ACTION: Notice of Approved Tribal-State Compact.

SUMMARY: Pursuant to section 11 of the Indian Gaming Regulatory Act of 1988 (IGRA), Pub. L. 100-497, 25 U.S.C. 2710, the Secretary of the Interior shall publish, in the Federal Register, notice of approved Tribal-State Compacts for the purpose of engaging in Class III gaming activities on Indian lands. The Assistant Secretary—Indian Affairs, Department of the Interior, through his delegated authority, has approved the Tribal-State Compact between the State of California and the Pauma Band of Mission Indians, which was executed on May 1, 2000.

DATES: This action is effective October 19, 2000.

FOR FURTHER INFORMATION CONTACT: George T. Skibine, Director, Office of Indian Gaming Management, Bureau of Indian Affairs, Washington, DC, 20240 (202) 219-4066.

Dated: October 6, 2000.
Kevin Gover,
Assistant Secretary—Indian Affairs.

[FR Doc. 00-26881 Filed 10-18-00; 8:45 am]

BILLING CODE 4310-02-P